ENVIRONMENTAL PROTECTION AGENCY

[FRL-9116-5]

RIN 2040-AF10

Stakeholder Meeting Regarding Revisions to the Unregulated Contaminant Monitoring Regulation

AGENCY: Environmental Protection Agency.

ACTION: Notice.

SUMMARY: The Safe Drinking Water Act (SDWA) requires the Environmental Protection Agency (EPA) to promulgate regulations establishing criteria for a monitoring program for unregulated contaminants. Monitoring varies based on system size, source water, and contaminants likely to be found. SDWA also specifies that for systems serving 10,000 persons or fewer, only a representative sample of systems must monitor. Per SDWA, EPA is required to issue, every five years, a list of not more than 30 unregulated contaminants to be monitored by public water systems. The first list of unregulated contaminants was published on September 17, 1999, and the second list on January 4, 2007. The third list is scheduled to be proposed by November 2010.

The purpose of this notice is to announce a public stakeholder meeting to present information to stakeholders concerning the status of the Agency's efforts in the areas of analyte selection, analytical methods, sampling design, determination of minimum reporting levels, and other possible revisions to the current Unregulated Contaminant Monitoring Regulation.

DATES: The meeting will be held on April 7, 2010, from 9 a.m. to 5 p.m., Eastern Daylight Saving Time.

ADDRESSES: The public meeting will be held at the Crystal City Marriott at Reagan National Airport, in the Salon D Room, at 1999 Jefferson Davis Highway, Arlington, VA 22202. The hotel is located near the Ronald Reagan Washington National Airport, and has access to the Crystal City Station on the Blue and Yellow Lines of the Washington Metrorail System (Metro). The Marriott's telephone number is (703) 413-5500.

FOR FURTHER INFORMATION CONTACT: General background information, please contact the Safe Drinking Water Hotline, phone: (800) 426-4791 or (703) 412-3330. Technical information contact David J. Munch or Brenda D. Parris, USEPA, Office of Ground Water and Drinking Water, Mail Code 140, 26 West Martin Luther King Drive, Cincinnati, OH 45268, or by e-mail: munch.dave@epa.gov or parris.brenda@epa.gov. An informational package will be prepared and available at the meeting. If you wish to receive this package prior to the meeting, contact Maureen Devitt Stone of The Cadmus Group at maureen.stone@cadmusgroup.com.

SUPPLEMENTARY INFORMATION: The meeting is open to the public. Statements from the public will be taken if time permits. This meeting will be held in a building that is accessible to persons using wheelchairs and scooters. Any person needing special accommodations at this meeting, including wheelchair access, should contact Susan Bjork of The Cadmus Group at (617) 673-7166 or susan.bjork@cadmusgroup.com, as soon as possible, but preferably no less than five business days before the scheduled meeting.

Dated: February 18, 2010.
Cynthia C. Dougherty,
Director, Office of Ground Water and Drinking Water.

[FR Doc. 2010-3534 Filed 2-22-10; 8:45 am]

BILLING CODE 6560-50-P